DEPARTMENT OF TRANSPORTATION

OFFICE OF THE SECRETARY

Aviation Proceedings

Aviation Proceedings, Agreements filed during the week ending July 7, 2000. The following Agreements were filed with the Department of Transportation under the provisions of 49 U.S.C. 412 and 414. Answers may be filed within 21 days after the filing of the application.

Docket Number: OST-2000-7612.

Date Filed: July 3, 2000.

Parties: Members of the International Air Transport Association.

Subject: PTC2 EUR-ME 0093 dated 30 June 2000, Europe-Middle East Expedited Resolution 002j, Intended effective date: 1 August 2000.

Docket Number: OST-2000-7613.

Date Filed: July 3, 2000.

Parties: Members of the International Air Transport Association.

Subject: PTC12 USA-EUR 0102 dated 27 June 2000 North Atlantic USA-Europe Resolutions r1-r26, PTC12 USA-EUR 0103 dated 30 June 2000 (Technical Correction), Minutes—PTC12 USA-EUR 0100 dated 23 June 2000, Tables—PTC12 USA-EUR Fares 0045 dated 30 June 2000, Intended effective date: 1 November 2000.

Docket Number: OST-2000-7614

Date Filed: July 5, 2000.

Parties: Members of the International Air Transport Association.

Subject: CTC COMP 0287 dated 2 June 2000, Worldwide Area Resolutions, (Except USA/US Territories), Minutes—CTC COMP 0292 dated 20 June 2000, Intended effective date: 1 October 2000 .

Docket Number: OST-2000-7615.

Date Filed: July 6, 2000.

Parties: Members of the International Air Transport Association.

Subject: PTC2 EUR-ME 0094 dated 4 July 2000, TC2 Europe-Middle East Expedited Resolutions r1-r3, Intended effective date: 15 August/1 September 2000.

Docket Number: OST-2000-7621.

Date Filed: July 7, 2000.

Parties: Members of the International Air Transport Association.

Subject: PTC2 ME 0081 dated 23 June 2000, TC2 Within Middle East Expedited Resolution 002e, Intended effective date: 15 August 2000.

Docket Number: OST-2000-7622.

Date Filed: July 7, 2000.

Parties: Members of the International Air Transport Association.

Subject: CTC COMP 0286 dated 2 June 2000, Composite Resolutions, Intended effective date: 1 October 2000.

Dorothy Y. Beard,
Federal Register Liaison.

[FR Doc. 00-18133 Filed 7-17-00; 8:45 am]

BILLING CODE 4910-62-P